ENVIRONMENTAL PROTECTION AGENCY

[FRL-7943-9]

Science Advisory Board Staff Office; Notification of a Teleconference of the Science Advisory Board Superfund Benefits Analysis Advisory Panel

AGENCY: Environmental Protection Agency (EPA).

ACTION: Notice.

SUMMARY: The EPA Science Advisory Board (SAB) Staff Office announces two public teleconferences of the SAB Superfund Benefits Analysis Advisory Panel.

DATES: A public teleconference of the SAB Superfund Benefits Analysis Advisory Panel will be held from 2 p.m. to 4 p.m. Eastern time on August 23, 2005 and September 7, 2005.

FOR FURTHER INFORMATION CONTACT: Members of the public who wish to obtain the call-in number and access code to participate in the teleconference may contact Dr. Holly Stallworth, Designated Federal Officer, at telephone: (202) 343-9867 or via e-mail at: stallworth.holly@epa.gov. An agenda and any other background materials for this teleconference will be posted on the SAB Web site at http://www.epa.gov/sab/panels/sba_adv_panel.htm prior to the teleconference.

Technical Contact: The technical contact in EPA's Office of Solid Waste and Emergency Response for the Superfund Benefits Analysis is Ms. Melissa Friedland who can be reached at (703) 603-8864 or friedland.melissa@epa.gov.

SUPPLEMENTARY INFORMATION:

Background

The Office of Solid Waste and Emergency Response (OSWER) has issued a draft study of the benefits of the Superfund program. This draft study is entitled Superfund Benefits Analysis and may be found at http://www.epa.gov/superfund/news/benefits.htm. In response to OSWER's request for advice on this draft study, the Superfund Benefits Analysis Advisory Panel held a teleconference on February 11, 2005 and a face-to-face public meeting on February 24-25, 2005 for discussion of this draft study. The original “widecast” soliciting expertise for the Superfund Benefits Analysis Advisory Panel was published in a Notice on July 30, 2004 (69 FR 45705-45706), and a Notice announcing both the teleconference and face-to-face meetings was published on February 7, 2005 (70 FR 6436).

On August 23, 2005 and September 7, 2005, the SAB Panel will discuss its draft advisory report that responds to the charge questions to the Panel. This draft advisory will be posted at the SAB Web site at http://www.epa.gov/sab/panels/sba_adv_panel.htm prior to the meeting. Agendas for both teleconferences will also be posted on the SAB web site prior to the teleconference.

Procedures for Providing Public Comment

The EPA Science Advisory Board (SAB) Staff Office accepts written public comments of any length, and will accommodate oral public comments whenever possible. The EPA SAB Staff Office expects that public statements presented at the Superfund Benefits Analysis Advisory Panel's meetings will not repeat previously submitted oral or written statements. Oral Comments: Requests to provide oral comments must be in writing (e-mail, fax or mail) and received by Dr. Stallworth no later than August 16, 2005 in order to reserve time on the August 23, 2005 meeting agenda and no later than August 31, 2005 in order to reserve time on the September 7, 2005 meeting agenda. For teleconferences, opportunities for oral comment will usually be limited to no more than five minutes per speaker. Written Comments: Written comments should be received in the SAB Staff Office by the same dates specified above so that the comments may be made available to the committee for their consideration. Comments should be supplied to the DFO at the address/contact information noted above in the following formats: One hard copy with original signature, and one electronic copy via e-mail (acceptable file format: Adobe Acrobat, WordPerfect, Word, or Rich Text files (in IBM-PC/Windows 95/98 format).

Dated: July 21, 2005.
Anthony F. Maciorowski,
Acting Director, EPA Science Advisory Board Staff Office.

[FR Doc. 05-14898 Filed 7-26-05; 8:45 am]

BILLING CODE 6560-50-P